DEPARTMENT OF HOMELAND SECURITY

[Docket No. DHS-2019-0057]

Understanding Public Perception and Acceptance of First Responders Use of Unmanned Aircraft Systems

AGENCY: Science and Technology Directorate (S&T), Department of Homeland Security (DHS).

ACTION: 60-Day Notice of Information Collection; Request for comment.

SUMMARY: S&T will submit the following Information Collection Request (ICR) to the Office of Management and Budget (OMB) for review and clearance in accordance with the Paperwork Reduction Act of 1995. The survey, called “Understanding Public Perception and Acceptance of First Responders Use of Unmanned Aircraft Systems (UAS)”, requests information about the use of unmanned aircraft systems (UAS) by firefighting, law enforcement, and emergency medical missions.

DATES: Comments are encouraged and accepted until April 10, 2020.

ADDRESSES: You may submit comments, identified by docket number DHS-2019-0057, at:

• Federal eRulemaking Portal: http://www.regulations.gov. Please follow the instructions for submitting comments.

• Mail and hand delivery or commercial delivery: Science and Technology Directorate, ATTN: Chief Information Office—Michele Zelando-Bailey, 245 Murray Drive, Mail Stop 0202, Washington, DC 20528.

Instructions: All submissions received must include the agency name and docket number DHS-2019-0057. All comments received will be posted without change to http://www.regulations.gov, including any personal information provided. Please note that comments submitted by fax or email and those submitted after the comment period will not be accepted.

Docket: For access to the docket to read background documents or comments received, go to http://www.regulations.gov.

FOR FURTHER INFORMATION CONTACT: DHS/S&T/OCIO Program Manager: Kathleen Deloughery, Kathleen.Deloughery@hq.dhs.gov or 202-254-5894 (Not a toll free number).

SUPPLEMENTARY INFORMATION: The primary purpose of this survey is to understand the public perception of and identify concerns with current and potential uses of UAS technology by first responders. The survey will ask respondents to report their demographic characteristics, their knowledge of unmanned aircraft systems (UAS), their knowledge of the use of UAS by first responders, their overall trust in the use of new technologies by the government and first responders, their general attitudes about such use, and their opinions about the use of UAS by first responders for specific applications like search-and-rescue. The survey will also ask respondents to evaluate the effectiveness of different test messages that we have created to deliver information to the public about first responder UAS applications.

S&T collects this information pursuant to 6 U.S.C. 182(6) and 193(b)(4). DHS, in accordance with the Paperwork Reduction Act (PRA), 44 U.S.C. 3501 et seq., provides the general public with an opportunity to comment on proposed, revised, and continuing collections of information. DHS is soliciting comments on the proposed Information Collection Request (ICR) that is described below. DHS is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Understanding Public Perception and Acceptance of First Responders Use of Unmanned Aircraft Systems.

Prior OMB Control Number: N/A.

Type of Review: New information collection.

Affected Public: Individuals and Households.

Frequency of Collection: One per Request.

Estimated Time per Respondent: 20 minutes or under.

Number of Respondents: 2,000.

Total Burden Hours: 660.

Dated: January 28, 2020.
Gregg Piermarini,
Director, Chief Information Office, Science and Technology Directorate.

[FR Doc. 2020-02528 Filed 2-7-20; 8:45 am]

BILLING CODE 9110-9F-P